DEPARTMENT OF HOMELAND SECURITY

[Docket No. DHS-2011-0064]

President's National Security Telecommunications Advisory Committee

AGENCY: National Protection and Programs Directorate, DHS.

ACTION: Committee Management; Notice of an Open Federal Advisory Committee Teleconference.

SUMMARY: The President's National Security Telecommunications Advisory Committee (NSTAC) will meet on Thursday, September 8, 2011, via a conference call. The meeting will be open to the public.

DATES: The NSTAC will meet Thursday, September 8, 2011, from 2 p.m. to 3:15 p.m. Please note that the meeting may close early if the committee has completed its business.

ADDRESSES: The meeting will be held via a conference call. For access to the conference bridge, contact Ms. Sue Daage at (703) 235-4964 or by e-mail at sue.daage@dhs.gov by 5 p.m. September 1, 2011.

To facilitate public participation, we are inviting public comment on the issues to be considered by the committee as listed in the “Supplementary Information” section below. Associated briefing materials that will be discussed on the conference call will be available at http://www.ncs.gov/nstac for review prior to the call. Written comments must be received by the Deputy Manager no later than September 23, 2011, identified by Federal Register Docket Number DHS-2011-0064 and may be submitted by any one of the following methods:

• Federal eRulemaking Portal: http://www.regulations.gov. Follow the instructions for submitting written comments.

• E-mail: NSTAC@hq.dhs.gov. Include the docket number in the subject line of the email message.

• Fax: (703) 235-4981

• Mail: Deputy Manager, National Communications System, National Protection and Programs Directorate, Department of Homeland Security, 245 Murray Lane, Mail Stop 0615, Arlington, VA 20598-0615.

Instructions: All written submissions received must include the words “Department of Homeland Security” and the docket number for this action. Written comments received will be posted without alteration at http://www.regulations.gov, including any personal information provided.

Docket: For access to the docket, background documents or comments received by the NSTAC, go to http://www.regulations.gov.

A public comment period will be held during the meeting on September 8, 2011, from 2:45 p.m. to 3:15 p.m., and speakers are requested to limit their comments to 3 minutes. Please note that the public comment period may end before the time indicated, following the last call for comments. Contact the individual listed below to register as a speaker.

FOR FURTHER INFORMATION CONTACT: Al Woodhouse, NSTAC Alternate Designated Federal Officer, Department of Homeland Security, telephone (703) 235-4900.

SUPPLEMENTARY INFORMATION: Notice of this meeting is given under the Federal Advisory Committee Act (FACA), 5 U.S.C. App. (Pub. L. 92-463). The NSTAC advises the President on matters related to national security and emergency preparedness telecommunications policy.

During the conference call, the NSTAC members will receive an update regarding the progress of the NSTAC's Cloud Computing Subcommittee's recent work and receive a tasking from the Executive Office of the President regarding the National Public Safety Broadband Network.

Dated: August 5, 2011.
Allen Woodhouse,
Acting Director, National Communications System.

[FR Doc. 2011-21518 Filed 8-22-11; 8:45 am]

BILLING CODE 9110-9P-P